DEPARTMENT OF HOUSING AND URBAN DEVELOPMENT

[Docket No. FR-7061-N-18]

60-Day Notice of Proposed Information Collection: Implementation of the Violence Against Women Reauthorization Act of 2013, OMB Control No.: 2577-0286

AGENCY: Offices of Housing, Public and Indian Housing, and Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: January 3, 2023.

ADDRESSES: Interested persons are invited to submit comments regarding this proposal. Comments should refer to the proposal by name and/or OMB Control Number and should be sent to: Colette Pollard, Reports Management Officer, REE, Department of Housing and Urban Development, 451 7th Street SW, Room 4176, Washington, DC 20410-5000; telephone 202-402-3400 (this is not a toll-free number) or email at Colette.Pollard@hud.gov. A copy of the proposed forms is available from Ms. Pollard. HUD welcomes and is prepared to receive calls from individuals who are deaf or hard of hearing, as well as individuals with speech and communication disabilities. To learn more about how to make an accessible telephone call, please visit https://www.fcc.gov/consumers/guides/telecommunications-relay-service-trs.

FOR FURTHER INFORMATION CONTACT: Leea Thornton, Office of Policy, Program and Legislative Initiatives, PIH, Department of Housing and Urban Development, 451 7th Street SW, Room 3178, Washington, DC 20410; telephone 202-402-6455. HUD welcomes and is prepared to receive calls from individuals who are deaf or hard of hearing, as well as individuals with speech and communication disabilities. To learn more about how to make an accessible telephone call, please visit https://www.fcc.gov/consumers/guides/telecommunications-relay-service-trs. Copies of available documents submitted to OMB may be obtained from Ms. Thornton.

SUPPLEMENTARY INFORMATION: This notice informs the public that HUD is seeking approval from OMB for the information collection described in Section A.

A. Overview of Information Collection

Title of Information Collection: Implementation of the Violence Against Women Reauthorization Act of 2013.

OMB Approval Number: 2577-0286.

Type of Request: Reinstatement, with change, of previously approved collection for which approval has expired.

Form Number: HUD-5380, HUD-5381, HUD-5382, and HUD-5383. Other: Emergency transfer reporting, lease bifurcation, and lease addendum.

Description of the need for the information and proposed use: The Violence Against Women Reauthorization Act of 2013 (VAWA 2013), Public Law 113-4, 127 Stat. 54, reauthorized and amended the Violence Against Women Act of 1994, as previously amended (title IV, sec. 40001-40703 of Pub. L. 103-322, 42 U.S.C. 13925 et seq.). In doing so, VAWA 2013 expanded the VAWA protections that applied to HUD's Section 8 and Public Housing programs and widened the range of HUD's housing programs that are subject to VAWA protections. The provisions of VAWA 2013 that afford protections to victims of domestic violence, dating violence, sexual assault, and stalking are statutory and statutorily directed to be implemented. Accordingly, on November 16, 2016, HUD published a final rule at 81 FR 80724 (VAWA Rule), implementing VAWA 2013's provisions in its housing programs. The Violence Against Women Act Reauthorization Act of 2022 (VAWA 2022) was signed March 15, 2022, however certain provisions are not self-implementing. Once VAWA 2022 has been implemented this PRA will be further updated, as appropriate.

The HUD programs that include VAWA protections as required by VAWA 2013 and the VAWA rule include:

• Section 202 Supportive Housing for the Elderly (12 U.S.C. 1701q);

• Section 811 Supportive Housing for Persons with Disabilities (42 U.S.C. 8013);

• Housing Opportunities for Persons with AIDS (HOPWA) program (42 U.S.C. 12901 et seq);

• HOME Investment Partnerships (HOME) program (42 U.S.C. 12741 et seq.);

• Homeless programs under title IV of the McKinney-Vento Homeless Assistance Act (42 U.S.C. 11360 et seq.), including the Emergency Solutions Grants (ESG) program; the Continuum of Care (CoC) program; and the Rural Housing Stability Assistance program;

• Multifamily rental housing under section 221(d)(3) of the National Housing Act (12 U.S.C. 17151(d)) with a below-market interest rate (BMIR) pursuant to section 221(d)(5);

• Multifamily rental housing under section 236 of the National Housing Act (12 U.S.C. 1715z-1);

• HUD programs assisted under the United States Housing Act of 1937 (42 U.S.C. 1437 et seq.); specifically, public housing under section 6 of the 1937 Act (42 U.S.C. 1437d), tenant-based and project-based rental assistance under section 8 of the 1937 Act (42 U.S.C. 1437f), and the Section 8 Moderate Rehabilitation Single Room Occupancy; and

• The Housing Trust Fund (12 U.S.C. 4568).

To assure covered housing providers (CHPs) under the programs listed above comply with VAWA 2013 and the VAWA Rule, the Department must provide to all CHPs certain model documents for use, as follows:

• Form HUD-5380: Notice of Occupancy Rights Under the Violence Against Women Act. HUD must provide this notice to CHPs, which must, in turn, distribute it to tenants and to applicants at the times specified in the VAWA rule at minimum to ensure they are aware of their rights under VAWA and its implementing regulations. CHPs must add specific information to this form as indicated by the imbedded instructions. The use of “we” or “us” and use of shorthand will require customization depending on whether the provider and the landlord are the same, and, particularly for the CPD programs, the program decisions made by the grantee and subgrantee.

• Form HUD-5381: Model Emergency Transfer Plan for Victims of Domestic Violence, Dating Violence, Sexual Assault, or Stalking. HUD must provide this model document to CHPs. CHPs must develop their own emergency transfer plans, as required by the VAWA rule, must make their emergency transfer plan available upon request, and, when feasible, must make their plan publicly available. CHPs may, at their discretion, use HUD-5381 to develop these plans. This model contains only general provisions of an emergency transfer plan that apply across the covered HUD programs. Adoption of this model plan without further customization and information concerning how the emergency transfer plan will operate will not be sufficient to meet a covered housing provider's responsibility to adopt an emergency transfer plan. CHPs must consult the applicable regulations and are encouraged to consult program-specific HUD guidance when developing their own emergency transfer plans to ensure those plans contain all required elements.

• Form HUD-5382: Certification of Domestic Violence, Dating Violence, Sexual Assault, or Stalking, and Alternate Documentation. HUD must provide this certification form to CHPs, which must, in turn, distribute it to tenants and applicants as a required complement and extension of the required Notice of Occupancy Rights Under the Violence Against Women Act (Form HUD-5380). As further explained on the Form HUD-5382, an applicant or tenant who is asking for or about VAWA protections may choose to fill out and submit this certification form as one of the four legally acceptable options the VAWA final rule provides for answering any covered housing provider's written request for documentation that an individual is or has been a victim of domestic violence, dating violence, sexual assault, or stalking or that a covered incident or incidents of domestic violence, dating violence, sexual assault, and stalking occurred. (Note: This is a revision of and supersedes form HUD-50066. VAWA 2013 required that the form be updated and made applicable to all covered housing programs.)

• Form HUD-5383: Emergency Transfer Request for Certain Victims of Domestic Violence, Dating Violence, Sexual Assault, or Stalking. HUD provides this model emergency transfer request form to CHPs. CHPs may, at their discretion, distribute it to tenants and applicants. This form serves as a model for use by a CHP to accept requests for emergency transfers under its required VAWA 2013 Emergency Transfer Plan.

HUD has, as part of this package, revised the forms that were published with HUD's final rule in order to more closely align with the rule and to clarify language. In addition to the minor changes, HUD makes the following specific changes:

• Form HUD-5380: Streamline information and language used in the notice to reduce pages. Translated regulatory language into plain language. Made titles of sections into questions that directly address the reader. CHPs must add specific information to this form as indicated by the imbedded instructions. Other areas of the form may be used by the provider to include customized information as necessary. The use of “we” or “us” and use of shorthand will require some customization depending on whether the provider (grantee/recipient) and the landlord are the same, and, particularly for the Office of HIV/AIDS Housing (OHH) and Office of Special Needs Assistance Programs (SNAPS), the program decisions made by the grantee/recipient.

• Form HUD-5381: Add a note to covered housing providers that the use of the model form without adding program specific and housing provider specific policies will not be sufficient to meet the emergency transfer plan requirements. Add a definition section with definitions taken from the regulation. Rename the section titled “Emergency Transfer Timing and Availability” to “Emergency Transfer Procedures” and add two new sections, “Emergency Transfer Policies” section, which clarifies that the provider must specify their individual policies for different categories of transfers (i.e. internal or external transfers) where applicable, and a “Priority for Transfers” section, which requires providers to provide any type of priority being provided to a victim consistent with 24 CFR 5.2005(e)(3) and (e)(6). Update the “Confidentiality” section to more closely follow the regulation at 24 CFR 5.2007(c) and put individuals on notice of confidentiality protections. Lastly, add a “Making Plan Available” section to describe how the plan will be made publicly available, where possible.

• Form HUD-5382: Update the “Submission of Documentation” section to include information about reasonable accommodations.

• Form HUD-5383: Update the “Confidentiality” section to use more plain language. Added information about family members in household, current address, best method of contact, what type of transfer is being requested, what features they want to request in a safe unit, and optional documentation to include with form.

In addition, the Department seeks approval for the following information collection activities required by VAWA 2013 and HUD's final rule:

• Lease Addendum: The VAWA regulation includes certain requirements that must be incorporated into tenants' leases.

• Emergency Transfer Reporting: CHPs must keep a record of all emergency transfers requested under its emergency transfer plan, and the outcomes of such requests, and retain these records for a period of three years, or for a period of time as specified in program regulations. Requests and outcomes of such requests must also be reported to HUD annually. Requests and outcomes of such requests must be reported to HUD annually. HUD proposes to include the following data fields in its program reporting systems to help standardize the information CHPs provide on emergency transfer requests and outcomes of those requests:

○ Total number of VAWA Emergency Transfer Requests

○ Number of requests that resulted in Internal Transfers

○ Number of requests that resulted in External Transfers

○ Number of requests yet to be placed

○ Number of approved Emergency Transfer requests that resulted in no transfer

○ Number of requests that did not qualify for Emergency Transfer and were denied

○ Length of time needed to process emergency transfers

Consistent with House Report 116-109, part of the fiscal year 2022 Omnibus Spending Bill, Public Law 113-4, HUD is also adding a request as part of this information collection to seek information about the extent to which public housing agencies and owners, and managers have adopted VAWA emergency transfer policies since the publication of the Department's model emergency transfer plan, and the effectiveness of those emergency transfer policies in allowing victims to access safe housing. The information would include the type of covered housing provider; a request for sharing their VAWA emergency transfer plan and whether such plan is publicly available; how many VAWA emergency transfer requests were received over the last three years and outcome of those requests; a request for indicating if a waiting list preference is available for victims of domestic violence, sexual assault, dating violence, and stalking; information about collaborations or coordination with consortiums or other providers for purposes of providing housing and services for victims; whether a VAWA service coordinator exists; and whether a VAWA lease bifurcation policy exists. This information may be collected by way of email communication, updated systems, or survey. This collection is also consistent with reporting in 24 CFR part 5, subpart L. HUD expects to request this information annually and it would take housing providers one hour per annual submission.

• Lease Bifurcation Option: VAWA 2013 mandates that HUD provide for lease bifurcation. In other words, CHPs may, subject to their program rules and state and local law, bifurcate a lease in order to evict or remove any member of a household who has allegedly engaged in criminal activity directly relating to domestic violence, dating violence, sexual assault, or stalking against an affiliated individual or other individual, while allowing the victim and other members of the household to remain. This is optional.

• Respondents (i.e. affected public): Public housing agencies, private multifamily housing owners and management agents, state and local agencies, and grant recipients.

Estimated Number of Respondents: 328,485.

Estimated Number of Responses: 7,969,000.

Frequency of Response: Varies. For the HUD-5380 and HUD-5382 there are approximately 3,918 Public Housing and Housing Choice Voucher respondents with 801 responses per respondent. For Multifamily Housing there are approximately 23,000 respondents with 104 responses per respondent. For HOME there are 1,874 respondents with approximately 62 responses. For HOPWA there are 255 respondents with 176 responses. For Homelessness programs (CoC, ESG, Rural Housing Stability) there are 1,040 respondents with 410 responses.

Each respondent indicated will have to complete an emergency transfer plan using the HUD-5381 or other format. For the HUD-5382 certification for documentation by survivor and emergency transfer request there are approximately 210,725 responses. For the HUD-5382 and HUD-5383 certification for documentation by professional and emergency transfer request there are 69,714 responses.

24 CFR section and description of activity | Number of respondents | Frequency of response (annual, per respondent) | Annual responses | Est. avg. time for requirement (hours) | Annual hour burden | Cost per hour | Total cost
5.2005(a) Form HUD-5380: Notice of Occupancy Rights and form HUD-5382: Certification Form-Distribution and Review
Public Housing and Housing Choice Voucher (HCV)
Annual Average of Denied Admissions | 3,918 | 7 | 27,426 | 0.08 | 2,194 | $24 | $52,658
Annual Average of new Households that Move In | 3,918 | 55 | 215,490 | 0.08 | 17,239 | 24 | 413,741
Annual Average of Eviction Notices Sent | 3,918 | 3 | 11,754 | 0.08 | 940 | 24 | 22,568
Multifamily Housing
Annual Average of Denied Admissions | 23,000 | 15 | 345,000 | 0.08 | 27,600 | 24 | 662,400
Annual Average of new Households that Move In | 23,000 | 9 | 207,000 | 0.08 | 16,560 | 24 | 397,440
Annual Average of Eviction Notices Sent | 23,000 | 10 | 230,000 | 0.08 | 18,400 | 24 | 441,600
HOME
Annual Average of Denied Admissions | 1,874 | 20 | 37,480 | 0.08 | 2,998 | 24 | 71,962
Annual Average of new Households that Move In | 1,874 | 16 | 29,984 | 0.08 | 2,399 | 24 | 57,569
Annual Average of Eviction Notices Sent | 1,874 | 8 | 14,992 | 0.08 | 1,199 | 24 | 28,785
HOPWA
Annual Average of Denied Admissions | 255 | 20 | 5,100 | 0.08 | 408 | 24 | 9,792
Annual Average of new Households that Move In | 255 | 20 | 5,100 | 0.08 | 408 | 24 | 9,792
Annual Average of Eviction Notices Sent | 255 | 10 | 2,550 | 0.08 | 204 | 24 | 4,896
Homeless (CoC, ESG, and Rural Housing Stability)
Annual Average of Denied Admissions | 1,040 | 5 | 5,200 | 1.5 | 7,800 | 24 | 187,200
Annual Average of new Households that Move In | 1,040 | 1 | 1,040 | 1.5 | 1,560 | 24 | 37,440
Annual Average of Eviction Notices Sent | 1,040 | 1 | 1,040 | 1.5 | 1,560 | 24 | 37,440
5.2005(e) Form HUD-5381: Emergency Transfer Plan-Completion
Public Housing and Housing Choice Voucher (HCV) | 3,918 | 1 | 3,918 | 8 | 31,344 | 24 | 752,256
Multifamily Housing | 23,000 | 1 | 23,000 | 8 | 184,000 | 24 | 4,416,000
HOME | 11,874 | 1 | 1,874 | 8 | 14,992 | 24 | 359,808
HOPWA | 255 | 1 | 255 | 8 | 2,040 | 24 | 48,960
Homeless (CoC, ESG, and Rural Housing Stability) | 1,040 | 1 | 1,040 | 4 | 4,160 | 24 | 99,840
5.2007(b) Form HUD-5382: Certification Form—Documentation by Survivor
Public Housing and Housing Choice Voucher (HCV) | 3,918 | 10 | 39,180 | 0.33 | 12,929 | 7.25 | 93,738
Multifamily Housing | 23,000 | 6 | 138,000 | 0.33 | 45,540 | 7.25 | 330,165
HOME | 1,874 | 15 | 28,110 | 0.33 | 9,276 | 7.25 | 67,253
HOPWA | 255 | 5 | 1,275 | 0.33 | 421 | 7.25 | 3,050
Homeless (CoC, ESG, and Rural Housing Stability) | 1,040 | 4 | 4,160 | 0.5 | 2,080 | 7.25 | 15,080
5.2007(b)(1)(ii) Form HUD-5382: Certification Form—Documentation by Professional
Public Housing and Housing Choice Voucher (HCV) | 3,918 | 3 | 11,754 | 0.5 | 5,877 | 24 | 141,048
Multifamily Housing | 23,000 | 2 | 46,000 | 0.5 | 23,000 | 24 | 552,000
HOME | 1,874 | 5 | 9,370 | 0.5 | 4,685 | 24 | 112,440
HOPWA | 255 | 2 | 510 | 0.5 | 255 | 24 | 6,120
Homeless (CoC, ESG, and Rural Housing Stability) | 1,040 | 2 | 2,080 | 0.5 | 1,040 | 24 | 24,960
5.2005(e) Form HUD-5383: Emergency Transfer Request—Documentation by Survivor
Public Housing and Housing Choice Voucher (HCV) | 3,918 | 10 | 39,180 | 0.33 | 12,929 | 7.25 | 93,738
Multifamily Housing | 23,000 | 3 | 69,000 | 0.33 | 22,770 | 7.25 | 165,083
HOME | 1,874 | 5 | 9,370 | 0.33 | 3,092 | 7.25 | 22,418
HOPWA | 255 | 5 | 1,275 | 0.33 | 421 | 7.25 | 3,050
Homeless (CoC, ESG, and Rural Housing Stability) | 1,040 | 4 | 4,160 | 0.5 | 2,080 | 7.25 | 15,080
5.2005(e) Form HUD-5383: Emergency Transfer Request—Annual Reporting
Public Housing and Housing Choice Voucher (HCV) | 3,918 | 1 | 3,918 | 1 | 3,918 | 24 | 94,032
Multifamily Housing | 23,000 | 1 | 23,000 | 1 | 23,000 | 24 | 552,000
HOME | 1,874 | 1 | 1,874 | 3 | 5,622 | 24 | 134,928
HOPWA | 255 | 1 | 255 | 1 | 255 | 24 | 6,120
Homeless (CoC, ESG, and Rural Housing Stability) | 1,040 | 1 | 1,040 | 1 | 1,040 | 24 | 24,960
5.2005(a) Lease Addendum—Distribution and Review
Public Housing and Housing Choice Voucher (HCV) | 3,918 | 59 | 231,162 | 0.5 | 115,581 | 24 | 2,773,944
Multifamily Housing | 23,000 | 24 | 552,000 | 0.5 | 276,000 | 24 | 6,624,000
HOME | 1,874 | 18 | 33,732 | 0.5 | 16,866 | 24 | 404,784
HOPWA | 255 | 50 | 12,750 | 0.5 | 6,375 | 24 | 153,000
Homeless (CoC, ESG, and Rural Housing Stability) | 1,040 | 403 | 419,120 | 0.5 | 209,560 | 24 | 5,029,440
5.2009 Lease Bifurcation
Public Housing and Housing Choice Voucher (HCV) | 3,918 | 4 | 15,672 | 8 | 125,376 | 24 | 3,009,024
Multifamily Housing | 23,000 | 4 | 92,000 | 2 | 184,000 | 24 | 4,416,000
HOME | 1,874 | 3 | 5,622 | 2 | 11,244 | 24 | 269,856
HOPWA | 255 | 2 | 510 | 2 | 1,020 | 24 | 24,480
Homeless (CoC, ESG, and Rural Housing Stability) | 1,040 | 0.5 | 520 | 1.5 | 780 | 24 | 18,720
NEW: Emergency Transfer Report
Public Housing and Housing Choice Voucher (HCV) | 3,918 | 1 | 3,918 | 1 | 3,918 | 24 | 94,032
Multifamily Housing | 23,000 | 1 | 23,000 | 0.5 | 11,500 | 24 | 276,000
Grand Total | 328,485 | Varies | 7,968,918 | Varies | 2,856,717 |  | 339,292,658

Notes:

• This matrix amends the one of the same titles provided in the OMB Emergency PRA approval, 2577-0286, approved 12/13/2016, which provided for 3,622,370 hours.

• For each category, HUD assumes the following breakdown of Covered Housing Provider respondents in covered programs: 3,918 public housing agencies that administer either or both public housing and HCV; 23,000 Multifamily Housing properties; 1,874 HOME Participating Jurisdictions (PJs) and housing owners; 255 HOPWA grant recipients, and 1,040 Homeless (CoC, ESG, and Rural Housing Stability) grant recipients.

• The “Frequency of Response (annual, per respondent)”, provides the estimated average of actions anticipated for each CHP in each program area. For example, HUD estimates that each Multifamily Housing property will deny assistance to 20 applicants each year. Therefore, the total number of responses and total number of Multifamily Housing assistance denials in one year is 23,000 × 20 = 460,000. Similarly, HUD estimates that each of the 255 HOPWA grant recipients will receive 5 completed Certification forms each year. The total number of responses and total number of certifications received in the HOPWA program in one year is 255 × 5 = 1,275.

• The $24 hourly rate is based on an average salary of $50,000 per annum. An internet search on 11/5/2020 shows housing specialist positions with an average of $40,000 per annum and $55,000 per annum for residential property managers. This dollar amount is a reasonable average for employees of CHPs at differing levels of seniority.

• $7.25 is used as the cost to tenants, as it is the federal minimum hourly wage amount.

Average Hours per Response: 0.39.

Total Estimated Burdens: 2,856,718.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) HUD solicits comment on the implementation of the requirement that covered housing providers must keep a record of all emergency transfers requested under its emergency transfer plan, and the outcomes of such requests, and that such data must be reported to HUD annually. Specifically, is HUD's list of potential outcomes adequate or are there outcomes that should be added or modified? Further, HUD proposes to collect data on the “length of time” for emergency transfers to be implemented. What is an appropriate measure for “length of time” for emergency transfers? Should a covered housing provider only measure from when the emergency transfer was requested to approval/denial and/or should it be measured to move-in date? If a victim is issued a Housing Choice Voucher (HCV) as a result of their emergency transfer request, should the length of time be measured from request to voucher issuance and/or lease-up date? Should covered housing providers be able to explain the circumstances that affected the length of time for emergency transfers (e.g., the victim turned down offered units due to safety concerns)?

HUD encourages interested parties to submit comment in response to these questions.

C. Authority

Section 3507 of the Paperwork Reduction Act of 1995, 44 U.S.C. 3507.

Laura Miller-Pittman,
Chief Office of Policy, Programs and Legislative Initiatives.

BILLING CODE P

[FR Doc. 2022-24070 Filed 11-3-22; 8:45 am]

BILLING CODE C